DEPARTMENT OF THE INTERIOR

Fish and Wildlife Service

[FWS-R9-IA-2011-N127; 96300-1671-0000-P5]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless a Federal permit is issued that allows such activities. Both laws require that we invite public comment before issuing these permits.

DATES: We must receive comments or requests for documents on or before July 25, 2011. We must receive requests for marine mammal permit public hearings, in writing, at the address shown in the ADDRESSES section by July 25, 2011.

ADDRESSES: Brenda Tapia, Division of Management Authority, U.S. Fish and Wildlife Service, 4401 North Fairfax Drive, Room 212, Arlington, VA 22203; fax (703) 358-2280; or e-mail DMAFR@fws.gov.

FOR FURTHER INFORMATION CONTACT: Brenda Tapia, (703) 358-2104 (telephone); (703) 358-2280 (fax); DMAFR@fws.gov (e-mail).

SUPPLEMENTARY INFORMATION:

I. Public Comment Procedures

A. How Do I Request Copies of Applications or Comment on Submitted Applications?

Send your request for copies of applications or comments and materials concerning any of the applications to the contact listed under ADDRESSES. Please include the Federal Register notice publication date, the PRT-number, and the name of the applicant in your request or submission. We will not consider requests or comments sent to an e-mail or address not listed under ADDRESSES. If you provide an e-mail address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, e-mail address, or other personal identifying information in your comment, you should be aware that your entire comment—including your personal identifying information—may be made publicly available at any time. While you can ask us in your comment to withhold your personal identifying information from public review, we cannot guarantee that we will be able to do so.

II. Background

To help us carry out our conservation responsibilities for affected species, the Endangered Species Act of 1973, section 10(a)(1)(A), as amended (16 U.S.C. 1531 et seq.), and our regulations in the Code of Federal Regulations (CFR) at 50 CFR Part 17, the Marine Mammal Protection Act of 1972, as amended (16 U.S.C. 1361 et seq.), and our regulations in the Code of Federal Regulations (CFR) at 50 CFR Part 18 require that we invite public comment before final action on these permit applications. Under the MMPA, you may request a hearing on any MMPA application received. If you request a hearing, give specific reasons why a hearing would be appropriate. The holding of such a hearing is at the discretion of the Service Director.

III. Permit Applications

A. Endangered Species

Applicant: Saint Louis Zoo, St. Louis, MO; PRT—42831A

The applicant requests a permit to import biological samples of Galapagos penguin (Spheniscus mediculus), Galapagos hawk (Buteo galapagoensis) and medium tree finch (Camarhynchus pauper) for disease and health evaluation for the purpose of enhancement of the survival of the species. This notification covers activities to be conducted by the applicant over a 5-year period.

Applicant: Feld Entertainment Inc., Vienna, VA; PRT-37444A

The applicant requests a permit to import for the purpose of enhancement of the species through conservation education, one African leopard (Panthera pardus), one Siberian tiger (Panthera tigris altaica), and 6 tigers (Panthera tigris). The captive-born animals are being imported from Schweiberdingen, Germany in cooperation with Alexander Lacey.

Multiple Applicants

The following applicants each request a permit to import the sport-hunted trophy of one male bontebok (Damaliscus pygargus pygargus) culled from a captive herd maintained under the management program of the Republic of South Africa, for the purpose of enhancement of the survival of the species.

Applicant: Michael DeRouen, Beaumont, TX; PRT-37076A

Applicant: Leonard Smith, N. Myrtle Beach, SC; PRT-45363A

B. Endangered Marine Mammals and Marine Mammals

Applicant: Tom Smith, Brigham Young University, Provo, UT; PRT-225854

The applicant requests an amendment to the permit to authorize harassment of polar bears (Ursus maritimus) by adjusting the video camera equipment and conducting aerial surveys using FLIR (forward looking infrared) and ground-truth surveys with snowmobiles near dens for the purpose of scientific research. This notification covers activities to be conducted by the applicant over the remainder of the 5-year period of the permit.

Applicant: U.S. Fish and Wildlife Service, Marine Mammals Management, Anchorage, AK; PRT-039386

The applicant requests an amendment and renewal of the permit to take up to 6000 walrus (Odobenus rosmarus) annually by biopsy darting and up to 50 walrus annually for tagging; to collect unlimited number of specimens from dead animals; to conduct aerial surveys; and to import unlimited number of biological specimens for the purpose of scientific research. This notification covers activities to be conducted by the applicant over a 5-year period.

Concurrent with publishing this notice in the Federal Register, we are forwarding copies of the above applications to the Marine Mammal Commission and the Committee of Scientific Advisors for their review.

Brenda Tapia,
Program Analyst/Data Administrator, Branch of Permits, Division of Management Authority.

[FR Doc. 2011-15719 Filed 6-22-11; 8:45 am]

BILLING CODE 4310-55-P